DEPARTMENT OF THE INTERIOR

Minerals Management Service

Notice of Royalty-in-Kind (RIK) Eligible Refiner Program Continuation and Sale

AGENCY: Minerals Management Service, Interior.

ACTION: Notice of RIK Eligible Refiner Program Continuation and Sale.

SUMMARY: On behalf of the Secretary of the Interior (Secretary), the Minerals Management Service (MMS) has made a determination that sufficient need exists among eligible refining companies to justify taking royalty oil in kind and offering this oil for sale to eligible refiners. As a result of this determination, a sale of Federal royalty oil for eligible refiners will be held the end of July 2008. Regarding this sale of Federal royalty oil, please reference the RIK Invitation for Offer, which is located at http://www.mrm.mms.gov/RIKweb/SmallRefiners.htm.

DATES: The sale will be held on August 5-6, 2008.

FOR FURTHER INFORMATION, CONTACT: Colin Bosworth, at (303) 231-3186, FAX (303) 231-3846, or e-mail colin.bosworth@mms.gov.

SUPPLEMENTARY INFORMATION: The MMS published a notice in the Federal Register on January 16, 2008 (73 FR 2938) seeking comments on eligible refiners' experience in gaining access to adequate supplies of crude oil at equitable prices. The MMS received comments from five eligible refiners and one major oil company. Three of the small refiners responded that there was a need to continue the RIK eligible refiner crude oil program.

Under 30 CFR 208.4(a), the Secretary determines whether eligible refiners have access to adequate supplies of crude oil at equitable prices.

On behalf of the Secretary, the MMS, based on its analysis, has decided at this time to continue the sale of royalty crude oil to eligible refiners. The MMM's determination is based on the fact that eligible refiners have expressed real concerns about the lack of stable access to the marketplace and the significant volatility of oil prices. Eligible refiners also continue to play a prominent role in providing jet fuel to the U.S. Department of Defense, which makes the eligible refiner oil program an important contributor to national security.

Dated: July 11, 2008.
Gregory J. Gould,
Associate Director for Minerals Revenue Management.

[FR Doc. E8-17388 Filed 7-29-08; 8:45 am]

BILLING CODE 4310-MR-P